SECURITIES AND EXCHANGE COMMISSION

[Release No. IC-26522]

Notice of Applications for Deregistration Under Section 8(f) of the Investment Company Act of 1940

July 30, 2004.

The following is a notice of applications for deregistration under section 8(f) of the Investment Company Act of 1940 for the month of July, 2004. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on August 24, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

Morgan Stanley All-Star Growth Fund

[File No. 811-10173]

Summary: Applicant seeks an order declaring that it has ceased to be an investment company. On October 3, 2003, applicant transferred its assets to Morgan Stanley American Opportunities Fund, based on net asset value. Applicant incurred expenses of approximately $444,429 in connection with the reorganization.

Filing Dates: The application was filed on May 25, 2004 and amended on July 13, 2004.

Applicant's Address: Morgan Stanley Investment Advisors Inc., 1221 Avenue of the Americas, New York, NY 10020.

Morgan Stanley Next Generation Trust

[File No. 811-9441]

Summary: Applicant seeks an order declaring that it has ceased to be an investment company. On December 19, 2003, applicant transferred its asset to Morgan Stanley Developing Growth Securities Trust, based on net asset value. Applicant incurred expenses of approximately $157,694 in connection with the reorganization.

Filing Dates: The application was filed on May 25, 2004, and amended on July 13, 2004.

Applicant's Address: Morgan Stanley Investment Advisors Inc., 1221 Avenue of the Americas, New York, NY 10020.

Morgan Stanley High Income Advantage Trust, Morgan Stanley High Income Advantage Trust II, Morgan Stanley High Income Advantage Trust III

[File No. 811-5337], [File No. 811-5612], [File No. 811-5700]

Summary: Each applicant, a closed-end investment company, seeks an order declaring that it has ceased to be an investment company. On December 13, 2002, each applicant transferred its assets to Morgan Stanley High Yield Securities Inc., based on net asset value. Applicants incurred expenses of approximately $148,108, $146,728 and $142,175, respectively, in connection with the reorganizations.

Filing Dates: The applications were filed on May 25, 2004 and amended on July 13, 2004.

Applicants' Address: Morgan Stanley Investment Advisors Inc., 1221 Avenue of the Americas, New York, NY 10020.

Active Assets Premier Money Trust

[File No. 811-9711]

Summary: Applicant seeks an order declaring that it has ceased to be an investment company. On March 28, 2002, applicant made a liquidating distribution to its shareholders, based on net asset value. Applicant incurred expenses of approximately $20,000 in connection with the liquidation.

Filing Dates: The application was filed on May 25, 2004, and amended on July 13, 2004.

Applicant's Address: Morgan Stanley Investment Advisors Inc., 1221 Avenue of the Americas, New York, NY 10020.

Iowa Schools Joint Investment Trust

[File No. 811-7698]

Summary: Applicant is a common law trust organized and operated as a diversified, open-end management investment company that has two series. Applicant was established under Iowa law (the “Iowa Code”) pursuant to Iowa Code chapter 28E and section 279.29, which authorize Iowa schools to jointly invest their funds pursuant to a joint investment agreement.

In 1993, applicant voluntarily registered under the Act. Applicant now states that it has experienced burdensome costs in operating in accordance with the requirements of the Act and seeks an order declaring that it has ceased to be an investment company. Applicant will rely on section 2(b) of the Act to remain exempt from the registration requirements of the Act. Applicant states that it is exempt under section 2(b) of the Act because it is an instrumentality of the State of Iowa.

Filing Date: The application was filed on July 12, 2004.

Applicant's Address: 665 Locust, PO Box 897, Des Moines, IA 50304-0897.

Fidelity Capital Investment Plans, Fidelity Trend Investment Plans, Salem Investment PFAS Fidelity Magellan Fund

[File No. 811-990], [File No. 811-1269], [File No. 811-1469]

Summary: Each applicant, a unit investment trust, seeks an order declaring that it has ceased to be an investment company. On May 20, 2003, each applicant made a liquidating distribution to its shareholders, based on net asset value. Applicants incurred no expenses in connection with the liquidations.

Filing Dates: The applications were filed on May 3, 2004, and amended on June 22, 2004.

Applicants' Address: 82 Devonshire St., Boston, MA 02109.

The Kaufmann Fund, Inc.

[File No. 811-1586]

Summary: Applicant seeks an order declaring that it has ceased to be an investment company. On April 23, 2004, applicant transferred its assets to Federated Kaufmann Fund, a series of Federated Equity Funds, based on net asset value. Expenses of $2,339,411 incurred in connection with the reorganization were paid by Edgemont Asset Management Corporation, applicant's investment adviser, and Federated Equity Funds.

Filing Dates: The application was filed on April 13, 2004, and amended on July 6, 2004.

Applicant's Address: 140 East 45 St., 43rd Floor, New York, NY 10017.

FBR Fund for Government Investors, FBR American Gas Index Fund, Inc., FBR Family of Funds

[File No. 811-2539], [File No. 811-5702], [File No. 811-7665]

Summary: Each applicant seeks an order declaring that it has ceased to be an investment company. On February 27, 2004, each applicant transferred its assets to corresponding series of The FBR Funds, based on net asset value. Expenses of $47,158, $73,437 and $317,664, respectively, incurred in connection with the reorganizations were paid by FBR National Trust Company, applicants' administrator, and its affiliates.

Filing Dates: The applications were filed on June 2, 2004, and amended on July 1, 2004.

Applicants' Address: 1001 Nineteenth St. N., Arlington, VA 22209.

Liberty Investment Grade Bond Fund (Formerly Colonial Investment Grade Interval Trust)

[File No. 811-9701]

Summary: Applicant, a closed-end investment company, seeks an order declaring that it has ceased to be an investment company. On September 19, 2000, applicant made a liquidating distribution to its shareholders, based on net asset value. Applicant incurred no expenses in connection with the liquidation.

Filing Dates: The application was filed on April 12, 2004, and amended on June 24, 2004.

Applicant's Address: One Financial Center, Boston, MA 02111.

Liberty Funds Trust IX (Formerly LAMCO Trust I)

[File No. 811-9095]

Summary: Applicant seeks an order declaring that it has ceased to be an investment company. On February 7, 2001, applicant transferred its assets to Liberty Growth & Income Fund, a series of Liberty Funds Trust VI, based on net asset value. Expenses of $49,368 incurred in connection with the reorganization were paid by applicant and Liberty Financial Companies, Inc., the parent company of applicant's investment adviser.

Filing Dates: The application was filed on April 12, 2004, and amended on June 24, 2004.

Applicant's Address: One Financial Center, Boston, MA 02111.

Liberty Stein Roe Funds Institutional Trust (Formerly Stein Roe Institutional Trust)

[File No. 811-7823]

Summary: Applicant seeks an order declaring that it has ceased to be an investment company. On October 30, 1998, applicant made a liquidating distribution to its shareholders, based on net asset value. Applicant incurred no expenses in connection with the liquidation.

Filing Dates: The application was filed on April 12, 2004, and amended on June 24, 2004.

Applicant's Address: One Financial Center, Boston, MA 02111.

Liberty Funds Trust VIII (Formerly LFC Utilities Trust)

[File No. 811-6393]

Summary: Applicant seeks an order declaring that it has ceased to be an investment company. On February 26, 1999, applicant made a liquidating distribution to its shareholders, based on net asset value. Applicant incurred no expenses in connection with the liquidation.

Filing Dates: The application was filed on April 12, 2004, and amended on June 24, 2004.

Applicant's Address: One Financial Center, Boston, MA 02111.

D. L. Babson Tax-Free Income Fund, Inc., Babson Enterprise Fund, Inc., Babson Value Fund, Inc., Shadow Stock Fund, Inc., Babson Enterprise Fund II, Inc., Great Hall Investment Funds, Inc., RBC Funds, Inc., J&B Funds

[File No. 811-2948], [File No. 811-3823], [File No. 811-4114], [File No. 811-5218], [File No. 811-6252], [File No. 811-6340], [File No. 811-8384], [File No. 811-10039]

Summary: Each applicant seeks an order declaring that it has ceased to be an investment company. On April 16, 2004, each applicant transferred its assets to a corresponding series of Tamarack Funds Trust, based on net asset value. Expenses of $35,931, $76,877, $92,948, $52,983, $43,697, $2,406,972, $227,223 and $94,837, respectively, incurred in connection with the reorganizations were paid by Voyageur Asset Management Inc., applicants' investment adviser.

Filing Date: The applications were filed on June 24, 2004.

Applicants' Address: 100 South Fifth St., Suite 2300, Minneapolis, MN 55402.

D. L. Babson Money Market Fund, Inc.

[File No. 811-2963]

Summary: Applicant seeks an order declaring that it has ceased to be an investment company. On April 16, 2004, applicant transferred its assets to Great Hall Prime Money Market Fund, a series of Great Hall Investment Funds, Inc., based on net asset value. Expenses of $38,229 incurred in connection with the reorganization were paid by applicant's investment adviser, Voyageur Asset Management Inc.

Filing Date: The application was filed on June 24, 2004.

Applicant's Address: 100 South Fifth St., Suite 2300, Minneapolis, MN 55402.

D. L. Babson Bond Trust, David L. Babson Growth Fund, Inc.

[File No. 811-495], [File No. 811-901]

Summary: Each applicant seeks an order declaring that it has ceased to be an investment company. On April 16, 2004, each applicant transferred its assets to corresponding series of RBC Funds, Inc., based on net asset value. Expenses of $78,867 and $63,112, respectively, incurred in connection with the reorganizations were paid by Voyageur Asset Management Inc., applicants' investment adviser.

Filing Date: The applications were filed on June 24, 2004.

Applicants' Address: 100 South Fifth St., Suite 2300, Minneapolis, MN 55402.

South Dakota Tax-Free Fund, Inc.

[File No. 811-8124]

Summary: Applicant seeks an order declaring that it has ceased to be an investment company. On June 25, 2004, applicant made a liquidating distribution to its shareholders, based on net asset value. Applicant incurred no expenses in connection with the liquidation.

Filing Date: The application was filed on July 19, 2004.

Applicant's Address: 1 Main St. N., Minot, ND 58703.

UC Investment Trust

[File No. 811-8701]

Summary: Applicant seeks an order declaring that it has ceased to be an investment company. On April 30, 2004, applicant made a liquidating distribution to its shareholders, based on net asset value. Expenses of $53,136 incurred in connection with the liquidation were paid by applicant's investment adviser, United Management Company, LLC.

Filing Date: The application was filed on June 30, 2004.

Applicant's Address: 135 Merchant St., Suite 230, Cincinnati, OH 45246.

PIC Growth Portfolio, PIC Small Cap Portfolio and PIC Mid Cap Portfolio

[File No. 811-6496, File No. 811-8060, File No. 811-8593]

Summary: Each applicant seeks an order declaring that it has ceased to be an investment company. On December 22, 2003, each applicant made a liquidating distribution to its shareholders, based on net asset value. Applicants incurred no expenses in connection with the liquidations.

Filing Date: The applications were filed on July 13, 2004.

Applicants' Address: 300 N. Lake Ave., Pasadena, CA 91101.

PIC Investment Trust

[File No. 811-6498]

Summary: Applicant seeks an order declaring that it has ceased to be an investment company. On December 22, 2003, applicant transferred its assets to Advisors Series Trust, based on net asset value. Applicant incurred no expenses in connection with the reorganization.

Filing Date: The application was filed on July 13, 2004.

Applicant's Address: 300 N. Lake Ave., Pasadena, CA 91101.

UBS Redwood Fund, L.L.C.

[File No. 811-10077]

Summary: Applicant, a closed-end investment company, seeks an order declaring that it has ceased to be an investment company. On June 22, 2004, applicant made a liquidating distribution to its shareholders, based on net asset value. Expenses of $43,900 incurred in connection with the liquidation were paid by PFPC Inc., applicant's administrator.

Filing Date: The application was filed on June 30, 2004.

Applicant's Address: c/o UBS Financial Services, Inc., 1285 Avenue of the Americas, New York, NY 10019.

The Munder Funds, Inc.

[File No. 811-7346]

Summary: Applicant seeks an order declaring that it has ceased to be an investment company. On October 30, 2003, applicant transferred its assets to Munder Series Trust, based on net asset value. Expenses of $40,004 incurred in connection with the reorganization were paid by applicant.

Filing Date: The application was filed on June 23, 2004.

Applicant's Address: 480 Pierce St., Birmingham, MI 48009.

The Bear Stearns Funds

[File No. 811-8798]

Summary: Applicant seeks an order declaring that it has ceased to be an investment company. On April 30, 2004, each series of applicant transferred its assets to a corresponding series of four investment companies managed by The Dreyfus Corporation, Dreyfus Premier Manager Funds I, Dreyfus Growth & Value Funds, Inc., The Dreyfus/Laurel Funds Trust and Dreyfus Premier Fixed Income Funds, based on net asset value. Expenses of $1,610,806 incurred in connection with the reorganization were paid by Bear Stearns Asset Management Inc., applicant's investment adviser, and The Dreyfus Corporation, investment adviser to the acquiring funds.

Filing Date: The application was filed on June 18, 2004.

Applicant's Address: 383 Madison Ave., New York, NY 10179.

Select Asset Fund III

[File No. 811-10081]

Summary: Applicant, a closed-end investment company, seeks an order declaring that it has ceased to be an investment company. On May 14, 2004, applicant made a liquidating distribution to its sole common shareholder, based on net asset value. Applicant's auction market preferred stock and floating rate notes were redeemed in accordance with their terms prior to the liquidation. Expenses of $14,309 incurred in connection with the liquidation were paid by applicant.

Filing Date: The application was filed on June 22, 2004.

Applicant's Address: c/o James A. McIntosh, President, 3945 Ridgmaar Sq., Ann Arbor, MI 48105.

First Penn-Pacific Variable Life Insurance Separate Account

[File No. 811-9827]

Summary: Applicant seeks an order declaring that it has ceased to be an investment company. Applicant abandoned its intention to operate before it received any assets. Applicant has never made a public offering of its securities and does not propose to make a public offering or engage in any business activity other than that necessary to wind up its affairs.

Filing Dates: The application was filed on March 11, 2002 and amended on June 30, 2004.

Applicant's Address: 1300 South Clinton Street, Fort Wayne, IN 46802.

Pan-American Assurance Company Variable Life Separate Account

[File No. 811-10295]

Summary: Applicant seeks an order declaring that it has ceased to be an investment company. Applicant requests deregistration based on abandonment of registration. At the time of filing, Applicant had no shareholders or contractholders.

Filing Date: The application was filed on June 7, 2004.

Applicant's Address: 601 Poydras Street, Suite 2600, New Orleans, LA 70130.

LSA Variable Series Trust

[File No. 811-9379]

Summary: Applicant seeks an order declaring that it has ceased to be an investment company. Shareholders approved the merger of applicant's fund on March 26, 2004, and applicant distributed its assets on April 30, 2004. The funds surviving the merger are AIM V.I. Basic Value Fund, a series of AIM Variable Insurance Funds, OPCAP Balanced Portfolio, a series of PIMCO Advisors VIT, Janus Aspen Capital Appreciation Portfolio, a series of Janus Aspen Series, Salomon Brothers Variable Investors Fund, a series of Salmon Brother Variable Series Inc., Aggressive Growth Portfolio, a series of Van Kampen Life Investment Trust, and UIF Equity Growth Portfolio and UIF U.S. Mid Cap Value Portfolio, series of The Universal Institutional Funds, Inc. LSA Asset Management LLC (the Adviser to the fund), its affiliates, and the advisers of the acquiring funds (AIM Capital Management, Inc., OPCAP Advisers LLC, Morgan Stanley Asset Management, Inc. doing business as Van Kampen, Van Kampen Asset Management, Inc., Salomon Brothers Asset Management, Inc. and Janus Capital Management LLC) paid the $525,061 incurred in connection with the merger.

Filing Date: The application was filed on June 15, 2004.

Applicant's Address: 3100 Sanders Road, Northbrook, IL 60062.

American United Life Pooled Equity Fund B

[File No. 811-1571]

Summary: Applicant seeks an order declaring that it has ceased to be an investment company. On March 31, 2004, Applicant made a distribution to its shareholders based on net asset value, and pro rata based on share ownership. AUL American Unit Trust is the name of the fund surviving the merger. American United Life Insurance Company paid the expenses incurred in connection with the merger, in the amount of $75,750.

Filing Dates: The application was filed on May 6, 2004, and amended on June 7, 2004.

Applicant's Address: One American Square, Indianapolis, IN 46282.

AAL Variable Product Series Fund, Inc.

[File No. 811-8662]

Summary: Applicant seeks an order declaring that it has ceased to be an investment company. On April 30, 2004, applicant made a liquidating distribution to its shareholders based on net asset value. Applicant incurred no expenses in connection with the liquidation.

Filing Dates: The application was filed on May 20, 2004 and amended and restated on July 21, 2004 and July 27, 2004.

Applicant's Address: 625 Fourth Avenue South, Minneapolis, MN 55415.

For the Commission, by the Division of Investment Management, pursuant to delegated authority.
Margaret H. McFarland,
Deputy Secretary.

[FR Doc. 04-17848 Filed 8-4-04; 8:45 am]

BILLING CODE 8010-01-P